ENVIRONMENTAL PROTECTION AGENCY

40 CFR Part 63

[EPA-HQ-OAR-2014-0492; FRL-9945-34-OAR]

RIN 2060-AR97

Clarification of Requirements for Method 303 Certification Training

AGENCY: Environmental Protection Agency (EPA).

ACTION: Withdrawal of direct final rule.

SUMMARY: Because the Environmental Protection Agency (EPA) received adverse comment, we are withdrawing the direct final rule for Clarification of Requirements for Method 303 Certification Training, published on February 25, 2016.

DATES: Effective April 20, 2016, the EPA withdraws the direct final rule published at 81 FR 9350, on February 25, 2016.

FOR FURTHER INFORMATION CONTACT: Ms. Kim Garnett, U.S. EPA, Office of Air Quality Planning and Standards, Air Quality Assessment Division, Measurement Technology Group (Mail Code: E143-02), Research Triangle Park, NC 27711; telephone number: (919) 541-1158; fax number: (919) 541-0516; email address: garnett.kim@epa.gov.

SUPPLEMENTARY INFORMATION: Because the EPA received adverse comment, we are withdrawing the direct final rule for Clarification of Requirements for Method 303 Certification Training, published on February 25, 2016 (81 FR 9350). We stated in that direct final rule that if we received adverse comment by March 28, 2016, the direct final rule would not take effect and we would publish a timely withdrawal in the Federal Register. We subsequently received adverse comment on that direct final rule. We will address those comments in any subsequent final action, which will be based on the parallel proposed rule also published on February 25, 2016 (81 FR 9407). As stated in the direct final rule and the parallel proposed rule, we will not institute a second comment period on this action.

Dated: April 14, 2016.
Janet G. McCabe,
Acting Assistant Administrator.

[FR Doc. 2016-09157 Filed 4-19-16; 8:45 am]

BILLING CODE 6560-50-P